DEPARTMENT OF HEALTH AND HUMAN SERVICES

National Institutes of Health

National Institute of General Medical Sciences Amended; Notice of Meeting

Notice is hereby given of a change in the meeting of the Training and Workforce Development Subcommittee—D, June 22, 2017, 08:30 a.m. to June 23, 2017, 05:00 p.m., Hotel Palomar, 2121 P Street NW., Washington, DC 20037 which was published in the Federal Register on June 05, 2017, 82 FR 25804.

The meeting notice is amended to change the title from “To review R25 Bridges to Baccalaureate and K12 IRACDA Grant applications” to “Training and Workforce Development Subcommittee—D to review R25 research training grant applications”. The meeting is closed to the public.

Dated: June 13, 2017.
Melanie J. Pantoja,
Program Analyst, Office of Federal Advisory Committee Policy.

[FR Doc. 2017-12593 Filed 6-16-17; 8:45 am]

BILLING CODE 4140-01-P